DEPARTMENT OF LABOR

Employment and Training Administration

[TA-W-65,351]

Ford Motor Company, Dearborn Truck Plant, Dearborn, MI; Notice of Termination of Investigation

Pursuant to Section 221 of the Trade Act of 1974, as amended, an investigation was initiated on February 24, 2009 in response to a petition filed by a Michigan state agency representative on behalf of workers at Ford Motor Company, Dearborn Truck Plant, Dearborn, Michigan. The workers at the subject facility assemble Ford F-150 pickups.

The petitioner has requested that the petition be withdrawn. Consequently, the investigation has been terminated.

Signed in Washington, DC, this 8th day of April 2009.
Richard Church,
Certifying Officer, Division of Trade Adjustment Assistance.

[FR Doc. E9-10573 Filed 5-6-09; 8:45 am]

BILLING CODE 4510-FN-P